FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Alcon Express Corp., 71-41 Kessena Blvd., 2nd Floor, Flushing, NY 11367, Officer: Alan C. Wang, President, (Qualifying Individual).

Logicargo ASL Int'l Corp, 7707 NW. 46 Street, Doral, FL 33166, Officer: Soraya Carrillo, Ocean Freight Manager, (Qualifying Individual).

Katoen Natie Tank Operations, Inc., 10925 Hwy 225, LaPorte, TX 77571, Officer: Misty Martinez, Treasurer, (Qualifying Individual).

Stolt-Nielsen USA Inc., 15635 Jacintoport Boulevard, Houston, TX 77015, Officer: Michael W. Kramer, Sen. Vice President, (Qualifying Individual).

Overseas Shipping and Shopping, Inc., 10302 NW. South River Drive, Bay 11, Medley, FL 33178, Officers: Devon A. Henry, President, (Qualifying Individual), Marlene M. Henry, Director.

World Wide Cargo Partners, LLC, 4244 Garibaldi Place, Pleasanton, CA 94566, Officers: Bruce Joder, Manager, (Qualifying Individual), Daniel D'Souza, Member.

RCF International, Inc., 3625 NW. 82nd Avenue, Ste. 103, Miami, FL 33168, Officer: Fernando A. Jimenez, President, (Qualifying Individual).

Non-Vessel Operating Common Carrier and Ocean Freight Forwarder Transportation Intermediary Applicants

Global Logistical Connections, Inc., 14908 S. Figueroa Street, Gardena, CA 90248, Officer: Derek Scarbrough, President, (Qualifying Individual).

The Janel Group of Georgia, Inc., 5651 Old Dixie Road, Ste. 120, Forest Park, GA 30050, Officers: Vincent J. Iacopella, Vice President, (Qualifying Individual), Phillip Castagna, President.

The Janel Group of Illinois, Inc., 2567 Greenleaf Avenue, Village, IL 60007, Officers: Vincent J. Iacopella, Vice President, (Qualifying Individual), Willian Lally, President.

Wastaki Freight International Inc., 10049 NW. 89 Avenue, Miami, FL 33178, Officers: Patrick A. Walters, President, (Qualifying Individual), Joy Campbell, Vice President.

ATC Logistics, Inc., 1490 Beachey Place, Carson, CA 90746, Officer: Paul Kang, President, (Qualifying Individual).

Chemlogix Global LLC, 1777 Sentry Parkway West, Blue Bell, PA 19422, Officers: William R. Spiro, Vice President, (Qualifying Individual), Edward R. Hildebrandt, President.

Salviati & Santori Ocean, Inc., 10 E. Merrick Road, Ste. 210, Valley Stream, NY 11580, Officer: Richard Cazan-Cassini, Vice President, (Qualifying Individual).

The Janel Group of New York Inc., 150-14 132nd Avenue, Jamaica, NY 11434, Officer: Eugene Limongelli, Vice President, (Qualifying Individual).

T.E.E. Transportation Services, LLC, 4027 Joe Street, Charlotte, NC 28206, Officer: Marsha F. Howard, Int'. Opera. Manager, (Qualifying Individual).

East International Holdings LLC, 3411 Ellamont Road, Ste. 101, Baltimore, MD 21215, Officers: Alfred M. Nkere, President, (Qualifying Individual).

Agents' House International, Inc., 2120 Dennis Street, Jacksonville, FL 32204, Officer: Lucius Leverette, Vice President, (Qualifying Individual).

IVI International Corp. dba IVI International Freight Forwarders, 10250 NW. 89th Ave., Bay #10, Miami, FL 33178, Officer: Ivan Israel Chavarria, President, (Qualifying Individual).

Glodex, Corp., 7235 NW. 54th Street, Miami, FL 33166, Officer: Antonia Cabaleiro, President, (Qualifying Individual).

Paramount Transportation Logistics Services, L.L.C., 15971 McGregor Boulevard, Fort Myers, FL 33908, Officer: Lori J. Crawford, Manager, (Qualifying Individual).

Ocean Freight Forwarder—Ocean Transportation Intermediary Applicants

S. Cubed Pacorini Logistics, LLC, 5240 Coffee Drive, New Orleans, LA 70115, Officer: Jeanne Shows-Andre, Managing Member, (Qualifying Individual).

Ely Forwarding L.L.C., 3214 Ole Miss Drive, Kenner, LA 70065, Officer: Elizabeth A. Ramos, President, (Qualifying Individual).

BDP Projects Logistics, LLC, 510 Walnut Street, 13th Fl., Philadelphia, PA 19106, Officers: Luc Van Heygen, Managing Director, (Qualifying Individual), Michael Andaloro, Director.

Gruden USA, Inc., 51 Newark Street, Ste. 302, Hoboken, NJ 07030, Officers: William Kreutzer, Vice President, (Qualifying Individual), Luca De Pieri, President.

Dated: August 1, 2008.
Karen V. Gregory,
Assistant Secretary.

[FR Doc. E8-18110 Filed 8-5-08; 8:45 am]

BILLING CODE 6730-01-P